DEPARTMENT OF COMMERCE

National Oceanic and Atmospheric Administration

RIN 0648-XX80

New England Fishery Management Council; Public Meeting

AGENCY: National Marine Fisheries Service (NMFS), National Oceanic and Atmospheric Administration (NOAA), Commerce

ACTION: Notice; public meeting.

SUMMARY: The New England Fishery Management Council (Council) is scheduling a public meeting of its Habitat/MPA/Ecosystem Advisory Panel in August, 2010 to consider actions affecting New England fisheries in the exclusive economic zone (EEZ). Recommendations from this group will be brought to the full Council for formal consideration and action, if appropriate.

DATES: This meeting will be held on Thursday, August 12, 2010 at 9:30 a.m.

ADDRESSES: This meeting will be held at the Four Points Sheraton, 407 Squire Road, Revere, MA 02151; telephone: (781) 284-7200; fax: (781) 289-3176.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Habitat Advisory Panel will meet to discuss management options to minimize the adverse effects of fishing on Essential Fish Habitat (EFH) across all Council FMPs. These management options are being developed as part of Phase 2 of Essential Fish Habitat Omnibus Amendment 2. Broadly speaking, the purpose of Phase 2 is to ensure that the Council's management plans are minimizing adverse impacts of various Council-managed fisheries on EFH to the extent practicable, and that EFH-related management measures are integrated and optimized across all FMPs. Recommendations from the Advisory Panel will be considered by the Habitat Committee at their meeting on August 26, 2010. As necessary, representatives from the Habitat Plan Development Team (PDT) will present recent PDT analyses and recommendations to inform the Advisory Panel's discussion. If time permits, the panel may discuss other issues.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: July 22, 2010.
Tracey L. Thompson,
Acting Director, Office of Sustainable Fisheries, National Marine Fisheries Service.

[FR Doc. 2010-18328 Filed 7-26-10; 8:45 am]

BILLING CODE 3510-22-S